POSTAL REGULATORY COMMISSION

[Docket Nos. CP2008-11, CP2008-12, and CP2008-13; Order No. 95]

Global Expedited Package Services 1

AGENCY: Postal Regulatory Commission.

ACTION: Notice.

SUMMARY: This document announces the filing of three Postal Service notices regarding Global Expedited Package Service (GEPS) contracts and related Commission review. Publication of this document satisfies procedural requirements. It also allows interested persons an opportunity to comment.

DATES: Postal Service filings are due August 15, 2008. Public comments are due August 20, 2008.

ADDRESSES: Submit comments electronically via the Commission's Filing Online system at http://www.prc.gov.

FOR FURTHER INFORMATION CONTACT: Stephen L. Sharfman, General Counsel, 202-789-6820 and stephen.sharfman@prc.gov.

SUPPLEMENTARY INFORMATION: On August 5, 2008, the Postal Service filed three identical notices, which have been assigned to Docket Nos. CP2008-11, CP2008-12, and CP2008-13, announcing prices and classification changes for competitive products not of general applicability.¹ These notices announce individual negotiated service agreements, namely, specific Global Expedited Package Service (GEPS) contracts the Postal Service has entered into with individual mailers. The Postal Service believes each is functionally equivalent to the Global Expedited Package Services 1 (GEPS 1) product established in Docket No. CP2008-5. These dockets have been filed pursuant to 39 U.S.C. 3633, 39 CFR 3015.5 and Order No. 86.² In Order No. 86, the Commission found that additional contracts may be included as part of the GEPS 1 product if they meet the requirements of 39 U.S.C. 3633 and if they are substantially equivalent to the initial GEPS 1 contract.³

¹ Notice of United States Postal Service of Filing of Functionally Equivalent Global Expedited Package Services 1 Negotiated Service Agreements, August 5, 2008, filed in Docket Nos. CP2008-11, CP2008-12, and CP2008-13 (Notices).

² Docket No. CP2008-5, Order Concerning Global Expedited Package Services Contracts, July 23, 2008 (Order No. 86).

³ Order No. 86 at 7 (“The Commission will verify whether or not any subsequent contract is in fact substantially equivalent. Contracts not having substantially the same terms and conditions as the GEPS 1 contract must be filed under 39 CFR part 3020, subpart B.”).

In support of each of these dockets, the Postal Service also filed the contract and supporting materials under seal. The Governor's Decision supporting the GEPS 1 product was filed in consolidated Docket No. CP2008-5.⁴ The Notices also contain the Postal Service's arguments that these agreements are substantially equivalent and that they exhibit similar cost and market characteristics. Notices at 3-5.

⁴ Docket No. CP2008-5, United States Postal Service Notice of Filing Redacted Copy of Governors' Decision No. 08-7, July 23, 2008.

Interested persons may express views and offer comments on whether the planned changes are consistent with the policies of 39 U.S.C. 3632, 3633, or 3642. Comments are due no later than August 20, 2008.

In addition, the Commission directs the Postal Service to provide a detailed justification for why it believes that information other than the name of the contracting party and the percentages listed in the certification and explanation filed pursuant to 39 CFR 3015.5(c)(2) is considered highly confidential or otherwise entitled to be filed under seal. An answer is due no later than August 15, 2008. If the Postal Service determines that the filing of a redacted version of the certification is appropriate, it shall file such certification as soon as possible.

Pursuant to 39 U.S.C. 505, Michael Ravnitzky is appointed to serve as officer of the Commission (Public Representative) to represent the interests of the general public in the above-captioned dockets.

Ordering Paragraphs

It is Ordered:

1. Comments on issues in these proceedings are due no later than August 20, 2008.

2. The Postal Service is directed to provide a response to the Commission's inquiry as set forth in the body of this order no later than August 15, 2008.

3. The Commission appoints Michael Ravnitzky as Public Representative to represent the interests of the general public in this proceeding.

4. The Secretary shall arrange for publication of this order in the Federal Register.

Issued: August 11, 2008.
By the Commission.
Steven W. Williams,
Secretary.

[FR Doc. E8-21055 Filed 9-10-08; 8:45 am]

BILLING CODE 7710-FW-P